DEPARTMENT OF COMMERCE

International Trade Administration

[A-588-874]

Certain Hot-Rolled Steel Flat Products From Japan: Preliminary Results and Partial Rescission of Antidumping Duty Administrative Review; 2021-2022

AGENCY: Enforcement and Compliance, International Trade Administration, Department of Commerce.

SUMMARY: The U.S. Department of Commerce (Commerce) preliminarily determines that one of the two producers/exporters of hot-rolled steel flat products (hot-rolled steel) from Japan, sold subject merchandise in the United States at prices below normal value during the period of review (POR) October 1, 2021, through September 30, 2022.

DATES: Applicable November 6, 2023.

FOR FURTHER INFORMATION CONTACT: Jack Zhao or Myrna Lobo, AD/CVD Operations, Office VII, Enforcement and Compliance, International Trade Administration, U.S. Department of Commerce, 1401 Constitution Avenue NW, Washington, DC 20230; telephone: (202) 482-1396 and (202) 482-2371, respectively.

SUPPLEMENTARY INFORMATION:

Background

Commerce is conducting an administrative review of the antidumping duty order on hot-rolled steel from Japan in accordance with section 751(a)(1)(B) of Tariff Act of 1930, as amended (the Act).¹ Commerce initiated this administrative review of the Order on December 5, 2022, covering three producers and/or exporters.² We selected two companies, NSC ³ and JFE ⁴ as the mandatory respondent.⁵ On March 3, 2023, Global Tubing LLC withdrew its review request with regard to JFE, pursuant to 19 CFR 351.213(d)(1).⁶ As Global Tubing LLC is the only party that requested a review for JFE and the request for withdrawal is timely, Commerce is preliminarily rescinding the review with respect to JFE.⁷ Subsequently, Commerce selected Tokyo Steel Manufacturing Co, Ltd. (Tokyo Steel), as a mandatory respondent in this review.⁸

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

² See Initiation of Antidumping and Countervailing Duty Administrative Reviews, 87 FR 74404 (December 5, 2022) (Initiation Notice).

³ NSC is a single entity comprised of the following companies: Nippon Steel Corporation; Nippon Steel Nisshin Co., Ltd.; and Nippon Steel Trading Corporation. See Certain Hot-Rolled Steel Flat Products from Japan: Notice of Final Results of Antidumping Duty Changed Circumstances Review, 84 FR 46713 (September 5, 2019).

⁴ JFE is a single entity comprised of JFE Shoji Corporation and JFE Steel Corporation. See Certain Hot-Rolled Steel Flat Products from Japan: Results of Antidumping Duty Administrative Review and Final Determination of No Shipments; 2018-2019, 86 FR 47615 (August 26, 2021). In the absence of record information indicating that Commerce should reevaluate this determination, we are treating these companies as a single entity for purposes of respondent selection.

⁵ See Memorandum, “Respondent Selection for the 2021-2022 Antidumping Duty Administrative Review of Certain Hot-Rolled Steel Flat Products from Japan,” dated February 23, 2023.

⁶ See Letter from Global Tubing LLC, “Withdrawal of Global Tubing LLC's Request for Administrative Review of JFE Steel and JFE Shoji,” dated March 3, 2023 (JFE Letter of Withdrawal).

⁷ See 19 CFR 351.213(d)(1).

⁸ See Memorandum, “Respondent Selection for the 2021-2022 Antidumping Duty Administrative Review of Certain Hot-Rolled Steel Flat Products from Japan—Selection of Tokyo Steel Manufacturing Co., Ltd. as a Mandatory Respondent,” dated March 7, 2023.

On June 27, 2023, in accordance with section 751(a)(3)(A) of the Act and 19 CFR 351.213(h)(1), we extended the deadline for the preliminary results of this review until October 31, 2023.⁹ For a detailed description of the events that followed the initiation of this review, see the Preliminary Decision Memorandum.¹⁰

⁹ See Memorandum, “Extension of Deadline for Preliminary Results of Antidumping Duty Administrative Review,” dated June 27, 2023.

¹⁰ See Memorandum, “Decision Memorandum for the Preliminary Results of the Antidumping Duty Administrative Reviews: Certain Hot-Rolled Steel Flat Products from Japan; 2021-2022,” dated concurrently with, and hereby adopted by, this notice (Preliminary Decision Memorandum).

Scope of the Order

The merchandise covered by the Order is hot-rolled steel from Japan. For a complete description of the scope of the Order, see the Preliminary Decision Memorandum.¹¹

¹¹ Id.

Methodology

Commerce is conducting this administrative review in accordance with section 751(a) of the Act. Export price and constructed export price were calculated in accordance with section 772 of the Act. Normal value is calculated in accordance with section 773 of the Act. For a full description of the methodology underlying our conclusions, see the Preliminary Decision Memorandum. A list of topics discussed in the Preliminary Decision Memorandum is attached as an appendix to this notice. The Preliminary Decision Memorandum is a public document and is on file electronically via Enforcement and Compliance's Antidumping and Countervailing Duty Centralized Electronic Service System (ACCESS). Access to ACCESS is available to registered users at https://access.trade.gov. In addition, a complete version of the Preliminary Decision Memorandum can be accessed at https://access.trade.gov/public/FRNoticesListLayout.aspx.

Rescission of Administrative Review, in Part

Pursuant to 19 CFR 351.213(d)(1), Commerce will rescind an administrative review, in whole or in part, if the parties that requested a review withdraw the request within 90 days of the date of publication of the notice of initiation. Commerce received timely-filed withdrawal requests for JFE.¹² Because the withdrawal requests were timely filed and no other party requested a review of JFE, in accordance with 19 CFR 351.213(d)(1), Commerce is rescinding this review of the Order with respect to JFE.

¹² See JFE Letter of Withdrawal.

Preliminary Results

We preliminarily determine the following estimated weighted-average dumping margins for the period October 1, 2021, through September 30, 2022:

Producer/exporter | Weighted- average dumping margin (percent)
Nippon Steel Corporation/Nippon Steel Nisshin Co., Ltd./Nippon Steel Trading Corporation | 1.39
Tokyo Steel Manufacturing Co., Ltd | 0.00

Disclosure and Public Comment

We intend to disclose the calculations performed for these preliminary results of review to interested parties within five days of the date of publication of this notice in accordance with 19 CFR 351.224(b). Pursuant to 19 CFR 351.309(c), interested parties may submit case briefs no later than 30 days after the date of publication of this notice. Rebuttal briefs, the content of which is limited to issues raised in the case briefs, may be filed no later than seven days after the date for filing case briefs.¹³ Parties who submit case briefs or rebuttal briefs in this proceeding are encouraged to submit with each argument: (1) a statement of the issue; (2) a brief summary of the argument; and (3) a table of authorities.¹⁴ Case and rebuttal briefs should be filed using ACCESS ¹⁵ and must be served on interested parties.¹⁶ Executive summaries should be limited to five pages total, including footnotes. Note that Commerce has amended certain of its requirements pertaining to the service of documents in 19 CFR 351.303(f).¹⁷

¹³ See 19 CFR 351.309(d).

¹⁴ See 19 CFR 351.309(c)(2) and (d)(2).

¹⁵ See, generally, 19 CFR 351.303.

¹⁶ See 19 CFR 351.303(f).

¹⁷ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, filed via ACCESS. An electronically filed request must be received successfully in its entirety by 5:00 p.m. Eastern Time within 30 days of the date of publication of this notice.¹⁸ Requests should contain: (1) the party's name, address, and telephone number; (2) the number of participants; and (3) a list of issues parties intend to discuss. If a request for a hearing is made, Commerce intends to hold the hearing at a date and time to be determined.¹⁹ Parties should confirm the date, time, and location of the hearing two days before the scheduled date.

¹⁸ See 19 CFR 351.310(c).

¹⁹ See 19 CFR 351.310(d).

Commerce intends to issue the final results of this administrative review, including the results of its analysis of the issues raised in any case or rebuttal briefs, no later than 120 days after the date of publication of this notice, unless extended.²⁰

²⁰ See section 751(a)(3)(A) of the Act and 19 CFR 351.213(h).

Assessment Rates

Upon completion of the administrative review, Commerce shall determine, and U.S. Customs and Border Protection (CBP) shall assess, antidumping duties on all appropriate entries. If the weighted-average dumping margins for NSC and Tokyo Steel are not zero or de minimis (i.e., less than 0.5 percent) in the final results of this review, we will calculate importer-specific ad valorem assessment rates for the merchandise based on the ratio of the total amount of dumping calculated for the examined sales made during the POR to each importer and the total entered value of those same sales, in accordance with 19 CFR 351.212(b)(1). Where an importer-specific ad valorem assessment rate is zero or de minimis in the final results of review, we will instruct CBP to liquidate the appropriate entries without regard to antidumping duties in accordance with 19 CFR 351.106(c)(2). If NSC's and Tokyo Steel's weighted-average dumping margins are zero or de minimis in the final results of review, we will instruct CBP not to assess duties on any of its entries in accordance with the Final Modification for Reviews, i.e., “{w}here the weighted-average margin of dumping for the exporter is determined to be zero or de minimis, no antidumping duties will be assessed.” ²¹

²¹ See Antidumping Proceedings: Calculation of the Weighted-Average Dumping Margin and Assessment Rate in Certain Antidumping Proceedings; Final Modification, 77 FR 8101, 8102 (February 14, 2012) (Final Modification for Reviews).

For entries of subject merchandise during the POR produced by NSC or Tokyo Steel for which the producer did not know its merchandise was destined for the United States, we will instruct CBP to liquidate unreviewed entries at the all-others rate if there is no rate for the intermediate company (or companies) involved in the transaction.²²

²² See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective upon publication of the notice of final results of this administrative review for all shipments of the subject merchandise entered, or withdrawn from warehouse, for consumption on or after the date of publication, as provided by section 751(a)(2)(C) of the Act: (1) the cash deposit rate for each specific company listed above will be that established in the final results of this review, except if the rate is less than 0.50 percent and, therefore, de minimis within the meaning of 19 CFR 351.106(c)(1), in which case the cash deposit rate will be zero; (2) for previously investigated companies not participating in this review, the cash deposit will continue to be the company-specific rate published for the most recently-completed segment of this proceeding in which the company participated; (3) if the exporter is not a firm covered in this review, or the underlying investigation, but the manufacturer is, then the cash deposit rate will be the rate established for the most recent segment for the manufacturer of the merchandise; and (4) the cash deposit rate for all other manufacturers or exporters will continue to be 5.58 percent, the all-others rate established in the less-than-fair-value investigation.²³ These deposit requirements, when imposed, shall remain in effect until further notice.

²³ See Order.

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties.

Notification to Interested Parties

We are issuing and publishing these results in accordance with sections 751(a)(1) and 777(i)(1) of the Act.

Dated: October 31, 2023.
Lisa W. Wang,
Assistant Secretary for Enforcement and Compliance.

Appendix

List of Topics Discussed in the Preliminary Decision Memorandum

I. Summary

II. Background

III. Scope of the Order

IV. Rescission of Administrative Review, in Part

V. Discussion of the Methodology

VI. Currency Conversion

VII. Recommendation

[FR Doc. 2023-24491 Filed 11-3-23; 8:45 am]

BILLING CODE 3510-DS-P